DEPARTMENT OF JUSTICE

Antitrust Division

Notice Pursuant to the National Cooperative Research and Production Act of 1993—Roll to Roll Processing To Enable the Organic Electronic Revolution

Notice is hereby given that, on October 16, 2003, pursuant to section 6(a) of the National Cooperative Research and Production Act of 1993, 15 U.S.C. 4301 et seg. (“the Act”), Roll to Roll Processing to Enable the Organic Electronic Revolution has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are GE Global Research, Niskayuna, NY; and Energy Conversion Devices, Inc., Rochester Hills, MI. The nature and objectives of the venture are to develop and demonstrate roll to roll processing to enable the organic electronics industry by providing highly functional devices at low cost and high volume.

Dorothy B. Fountain,
Deputy Director of Operations, Antitrust Division.

[FR Doc. 03-29832 Filed 11-28-03; 8:45 am]

BILLING CODE 4410-11-M